COMMISSION ON CIVIL RIGHTS

Notice of Public Meeting of the Kansas Advisory Committee To Hear Testimony on Seclusion and Restraint of Children With Disabilities in Kansas Schools

AGENCY: U.S. Commission on Civil Rights.

ACTION: Notice of meeting.

SUMMARY: Notice is hereby given, pursuant to the provisions of the rules and regulations of the U.S. Commission on Civil Rights (Commission) and the Federal Advisory Committee Act that the Kansas Advisory Committee (Committee) will hold a meeting on Wednesday, March 25, 2015, at 12:00 p.m. CST for the purpose of hearing testimony from a balanced panel of interested parties on seclusion and restraint of children with disabilities in Kansas schools. An open session will be available at the end of the meeting for members of the public who call in to make a statement.

Members of the public can listen to the discussion. This meeting is available to the public through the following toll-free call-in number: 888-572-7033, conference ID: 8127019. Any interested member of the public may call this number and listen to the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by April 25, 2015. Written comments may be mailed to the Midwestern Regional Office, U.S. Commission on Civil Rights, 55 W. Monroe St., Suite 410, Chicago, IL 60615. They may also be faxed to the Commission at (312) 353-8324, or emailed to Administrative Assistant, Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Kansas Advisory Committee link. Persons interested in the work of this Committee are directed to the Commission's Web site, http://www.usccr.gov, or may contact the Midwestern Regional Office at the above email or street address.

Agenda

Welcome and Introductions

12:00 p.m. to 12:05 p.m.—Elizabeth Kronk Warner, Chair

Panel Testimony on Seclusion and Restraint in Kansas schools

12:05 p.m. to 1:15 p.m.

Open Session

1:15 p.m. to 1:30 p.m.

Adjournment

1:30 p.m.

DATES: The meeting will be held on Wednesday, March 25, 2015, at 12:00 p.m.

Public Call Information:

Dial: 888-572-7033.

Conference ID: 8127019.

Dated: March 2, 2015.
David Mussatt,
Chief, Regional Programs Unit.

[FR Doc. 2015-05167 Filed 3-5-15; 8:45 am]

BILLING CODE 6335-01-P